DEPARTMENT OF THE INTERIOR

Fish and Wildlife Service

50 CFR Part 20

Migratory Bird Hunting: Application for Approval of Silvex Metal as a Nontoxic Shot Material for Waterfowl Hunting

AGENCY: Fish and Wildlife Service, Interior.

ACTION: Notice of application.

SUMMARY: The U.S. Fish and Wildlife Service (Service) is providing public notification that Victor Oltrogge of Arvada, Colorado, has applied for approval of Silvex shot as nontoxic for waterfowl hunting in the United States. The Service has initiated review of Silvex under the criteria set out in Tier 1 of the nontoxic shot approval procedures.

DATES: A comprehensive review of the Tier 1 information is to be concluded by December 23, 2003.

ADDRESSES: Mr. Oltrogge's application may be reviewed in Room 4091 at the Fish and Wildlife Service, Division of Migratory Bird Management, 4501 N. Fairfax Drive, Arlington, Virginia, 22203-1610. Comments on this notice may be submitted to the Division of Migratory Bird Management at 4401 North Fairfax Drive, MS MBSP-4107, Arlington, VA 22203-1610. Comments will become part of the Administrative Record for the review of the application. The public may review comments at Room 4091 at the Fish and Wildlife Service, Division of Migratory Bird Management, 4501 North Fairfax Drive, Arlington, Virginia, 22203-1610.

FOR FURTHER INFORMATION CONTACT: Brian Millsap, Chief, Division of Migratory Bird Management, (703) 358-1714, or John J. Kreilich, Jr., Wildlife Biologist, Division of Migratory Bird Management, (703) 358-1928.

SUPPLEMENTARY INFORMATION: The Migratory Bird Treaty Act of 1918 (Act) (16 U.S.C. 703-712 and 16 U.S.C. 742 a-j) implements migratory bird treaties between the United States and Great Britain for Canada (1916 and 1996 as amended), Mexico (1936 and 1972 as amended), Japan (1972 and 1974 as amended), and Russia (then the Soviet Union, 1978). These treaties protect certain migratory birds from take, except as permitted under the Act. The Act authorizes the Secretary of the Interior to regulate take of migratory birds in the United States. Under this authority, the Fish and Wildlife Service controls the hunting of migratory game birds through regulations in 50 CFR part 20.

Since the mid-1970s, the Service has sought to identify types of shot for waterfowling that, when spent, do not pose a significant toxic hazard to migratory birds and other wildlife when ingested. We have approved several types of shot as nontoxic and added them to the migratory bird hunting regulations in 50 CFR 20.21. We believe that compliance with the use of nontoxic shot will continue to increase with the approval and availability of other nontoxic shot types. Therefore, we continue to provide producers of shot with the opportunity to submit for approval alternative types of nontoxic shot.

Mr. Oltrogge submitted his application with the counsel that it contained all of the specified information for a complete Tier 1 submittal and requested unconditional approval pursuant to the Tier 1 time frame. We have determined that the application is complete, and have initiated a comprehensive review of the Tier 1 information. After the review, the Service will either publish a Notice of Review to inform the public that the Tier 1 test results are inconclusive or publish a proposed rule for approval of the candidate shot. If the Tier 1 tests are inconclusive, the Notice of Review will indicate what other tests will be required before approval of the Silvex shot as nontoxic is again considered. If the Tier 1 data review results in a preliminary determination that the candidate material does not pose a significant hazard to migratory birds, other wildlife, or their habitats, the Service will commence with a rulemaking proposing to approve the candidate shot.

Dated: October 10, 2003.
Matt Hogan,
Deputy Director, U.S. Fish and Wildlife Service.

[FR Doc. 03-26935 Filed 10-23-03; 8:45 am]

BILLING CODE 4310-55-P